FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010051-034.

Title: Mediterranean Space Charter Agreement.

Parties: Evergreen Marine Corp. (Taiwan) Ltd,; Farrell Lines, Inc.; Italia di Navigazione, LLC; Lykes Lines Limited, LLC; A.P. Moller-Maersk A/S; Mediterranean Shipping Company, S.A.; P&O Nedlloyd Limited; P&O Nedlloyd B.V.; Hapag-Lloyd Container Linie GmbH; and Zim Integrated Shipping Services, Ltd.

Filing Party: Wayne R. Rohde, Esq.; Sher & Blackwell; 1850 M Street, NW., Suite 900; Washington, DC 20036.

Synopsis: The amendment revises Zim's corporate name.

Agreement No.: 011290-033.

Title: International Vessel Operators Hazardous Material Association Agreement.

Parties: Aliança Navegacao e Logistica Ltda.; APL Co. PTE Ltd.; Atlantic Container Line AB; Australia-New Zealand Direct Line; Bermuda Container Line; Canada Maritime Agencies Ltd.; China Shipping Container Lines Co., Ltd.; CMA CGM, S.A.; Compania Latino Americana de Navegacion SA; Contship Containerlines; Crowley Maritime Corporation; Evergreen Marine Corp. (Taiwan) Ltd.; Hamburg-Südamerikanische Dampfschifffahrts-gesellschaft KG; Hanjin Shipping Co., Ltd.; Hapag-Lloyd Container Linie GmbH; Horizon Lines, LLC; Hyundai Merchant Marine Co., Ltd.; Independent Container Line Ltd.; Italia di Navigazione, LLC; Kawasaki Kisen Kaisha Ltd.; Lykes Lines Limited, LLC; Marine Transport Lines, Inc.; Maruba SCA; Mitsui O.S.K. Lines, Ltd.; A.P. Moller-Maersk A/S; National Shipping Co. of Saudi Arabia; Nippon Yusen Kaisha Line; Orient Overseas Container Line Limited; P&O Nedlloyd B.V.; P&O Nedlloyd Limited; Safmarine Container Lines; Seaboard Marine Ltd.; Senator Lines GmbH; TMM Lines Limited; Tropical Shipping & Construction Co., Ltd.; United Arab Shipping Co. S.A.G.; Yang Ming Marine Transport Corp.; and Zim Integrated Shipping Services, Ltd.

Filing Party: Wayne R. Rohde, Esquire; Sher & Blackwell LLP; 1850 M Street, NW.; Suite 900; Washington, DC 20036.

Synopsis: The amendment changes Zim's name and deletes Mediterranean Shipping Co. S.A. as a party to the agreement.

Agreement No.: 011346-013.

Title: Israel Trade Conference Agreement.

Parties: Farrell Lines, Inc.; P&O Nedlloyd Limited; and Zim Integrated Shipping Services, Ltd.

Filing Party: Wayne R. Rohde, Esq.; Sher & Blackwell; 1850 M Street, NW., Suite 900; Washington, DC 20036.

Synopsis: The amendment revises Zim's corporate name.

Agreement No.: 011353-032.

Title: The Credit Agreement.

Parties: A.P. Moller-Maersk A/S; Seaboard Marine of Florida, Inc.; Seaboard Marine Ltd.; King Ocean Services Limited; King Ocean Services de Venezuela; Dole Ocean Cargo Express; APL Co. PTE Ltd.; Evergreen Marine Corporation (Taiwan) Ltd.; Caribbean General Maritime, Ltd.; and Crowley Liner Services, Inc.

Filing Party: Wayne R. Rohde, Esq.; Sher & Blackwell; 1850 M Street, NW., Suite 900; Washington, DC 20036.

Synopsis: The amendment updates Maersk's corporate name.

Agreement No.: 011405-017.

Title: Ocean Carrier Working Group Agreement

Parties: Latin America Agreement; Israel Trade Conference; Trans-Atlantic Conference Agreement; Transpacific Stabilization Agreement; Middle East Indian Subcontinent Discussion Agreement; United States Australasia Discussion Agreement; United States/ South Europe Conference; Westbound Transpacific Stabilization Agreement; A.P. Moller-Maersk A/S; Contship Containerlines; Evergreen Marine Corporation (Taiwan) Ltd.; King Ocean Service de Venezuela, S.A.; Star Shipping A/S; Tropical Shipping & Construction Company, Limited; Wallenius Wilhelmsen Lines AS; Zim Integrated Shipping Services, Ltd.; and Hapag-Lloyd Container Linie GmbH.

Filing Party: Wayne R. Rohde, Esq.; Sher & Blackwell; 1850 M Street, NW.; Suite 900; Washington, DC 20036.

Synopsis: The amendment corrects the names of certain individual parties and updates the membership of various agreement parties.

Agreement No.: 011547-017.

Title: Eastern Mediterranean Discussion Agreement.

Parties: Farrell Lines, Inc.; COSCO Container Lines Co. Ltd.; China Shipping Container Lines Co., Ltd.; A.P. Moller-Maersk A/S; Mediterranean Shipping Company, S.A.; P&O Nedlloyd Limited; Hapag-Lloyd Container Linie GmbH; Turkon Container Transportation & Shipping, Inc.; and Zim Integrated Shipping Services, Ltd.

Filing Party: Wayne R. Rohde, Esq.; Sher & Blackwell; 1850 M Street, NW., Suite 900; Washington, DC 20036.

Synopsis: The amendment revises Zim's corporate name.

Agreement No.: 011587-010.

Title: United States South Europe Conference.

Parties: A.P. Moller-Maersk A/S; P&O Nedlloyd Limited; and Hapag-Lloyd Container Linie GmbH.

Filing Party: Wayne R. Rohde, Esq.; Sher & Blackwell; 1850 M Street, NW., Suite 900; Washington, DC 20036.

Synopsis: The amendment updates Maersk's corporate name.

Agreement No.: 011654-010.

Title: Middle East Indian Subcontinent Discussion Agreement.

Parties: The National Shipping Company of Saudi Arabia; A.P. Moller-Maersk A/S; United Arab Shipping Company (S.A.G.); CMA CGM S.A.; P&O Nedlloyd Limited; American President Lines; and Contship Container lines, a division of CP Ships (UK) Limited.

Filing Party: Wayne R. Rohde, Esq.; Sher & Blackwell; 1850 M Street, NW., Suite 900; Washington, DC 20036.

Synopsis: The amendment updates Maersk's corporate name.

Agreement No.: 011689-007.

Title: Zim/CSCL Space Charter Agreement.

Parties: Zim Integrated Shipping Services, Ltd. and China Shipping Container Line Co., Ltd.

Filing Party: Wayne R. Rohde, Esq.; Sher & Blackwell; 1850 M Street, NW., Suite 900; Washington, DC 20036.

Synopsis: The amendment revises Zim's corporate name.

Agreement No.: 011742-003.

Title: P&O Nedlloyd-Farrell/Hapag-Lloyd/Zim Mediterranean Space Charter Agreement.

Parties: Farrell Lines, Inc.; P&O Nedlloyd Limited; P&O Nedlloyd B.V.; Hapag-Lloyd Container Linie GmbH; and Zim Integrated Shipping Services, Ltd.

Filing Party: Wayne R. Rohde, Esq.; Sher & Blackwell; 1850 M Street, NW., Suite 900; Washington, DC 20036.

Synopsis: The amendment revises Zim's corporate name.

Agreement No.: 011786-004.

Title: Zim/Great Western Agreement.

Parties: Zim Integrated Shipping Services, Ltd. and Great Western Steamship Company.

Filing Party: Wayne R. Rohde, Esq.; Sher & Blackwell; 1850 M Street, NW., Suite 900; Washington, DC 20036.

Synopsis: The amendment revises Zim's corporate name.

Agreement No.: 011821-001.

Title: MSC/CMA CGM Space Charter Agreement.

Parties: CMA CGM, S.A. and Mediterranean Shipping Company, S.A.

Filing Party: Paul M. Keane, Esq.; Cichanowicz, Callan, Keane, Vengrow & Textor, LLP; 61 Broadway, Suite 3000; New York, NY 10006-2802.

Synopsis: The amendment revises the parties' space allocations under the agreement. The parties request expedited review.

Agreement No.: 011874-001.

Title: K-Line/Zim Space Charter Agreement.

Parties: Zim Integrated Shipping Services, Ltd. and Kawasaki Kisen Kaisha, Ltd.

Filing Party: Wayne R. Rohde, Esq.; Sher & Blackwell; 1850 M Street, NW., Suite 900; Washington, DC 20036.

Synopsis: The amendment revises Zim's corporate name.

Agreement No.: 011875-001.

Title: Zim/Hapag-Lloyd USEC Slot Charter Agreement.

Parties: Zim Integrated Shipping Services, Ltd. and Hapag-Lloyd Container Linie GmbH.

Filing Party: Wayne R. Rohde, Esq.; Sher & Blackwell; 1850 M Street, NW., Suite 900; Washington, DC 20036.

Synopsis: The amendment revises Zim's corporate name.

Agreement No.: 011881-001.

Title: Zim/USL Space Charter Agreement.

Parties: Zim Integrated Shipping Services, Ltd. and U.S. Lines Limited.

Filing Party: Wayne R. Rohde, Esq.; Sher & Blackwell; 1850 M Street, NW., Suite 900; Washington, DC 20036.

Synopsis: The amendment revises Zim's corporate name.

Agreement No.: 201161.

Title: AMPT/Maher Cooperative Working Agreement.

Parties: APM Terminals North America, Inc.; Maher Terminals, Inc.; and Millennium Marine Rail LLC.

Filing Party: Wayne R. Rohde, Esquire; Sher & Blackwell LLP; 1850 M Street, NW.; Suite 900; Washington, D.C. 20036.

Synopsis: The proposed agreement authorizes APMT and Maher to create a limited liability company, Millennium, that will act as a marine terminal operator operating an on-dock rail transfer facility in Elizabeth, New Jersey. The parties request expedited review.

Agreement No.: 201162.

Title: NYSA-ILA Assessment Agreement.

Parties: New York Shipping Association, Inc. and the International Longshoremen's Association, AFL-CIO for the Port of New York and New Jersey.

Filing Party: Richard P. Lerner, Esq.; Lambos & Junge; 29 Broadway—9th floor; New York, NY 10006.

Synopsis: The subject agreement replaces and supersedes the current NYSA-ILA Assessment Agreement. It provides for increased assessment rates for various categories of cargo.

Dated: October 1, 2004.
By Order of the Federal Maritime Commission.
Karen V. Gregory,
Assistant Secretary.

[FR Doc. 04-22517 Filed 10-5-04; 8:45 am]

BILLING CODE 6730-01-P